ENVIRONMENTAL PROTECTION AGENCY

40 CFR Part 52

[EPA-R04-OAR-2007-0085; FRL-9972-85-Region 4]

Air Plan Approval; NC; Open Burning and Miscellaneous Revisions

AGENCY: Environmental Protection Agency (EPA).

ACTION: Final rule.

SUMMARY: Due to adverse comments received, the Environmental Protection Agency (EPA) is amending the North Carolina State Implementation Plan (SIP) to remove some provisions made effective through the direct final rule that was published on July 18, 2017. EPA stated that if adverse comments were received by the close of the comment period, the rule would be withdrawn and not take effect, or if adverse comments were received on an amendment, paragraph, or section of the rule, EPA may adopt as final those provisions of the rule that are not the subject of an adverse comment. EPA received adverse comments on two specific SIP revisions. Therefore, EPA is removing only the portions of the SIP related to those two revisions.

DATES: This rule is effective January 10, 2018.

ADDRESSES: EPA has established a docket for this action under Docket Identification No. EPA-R04-OAR-2007-0085. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air, Pesticides and Toxics Management Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Nacosta C. Ward, Air Regulatory Management Section, Air Planning and Implementation Branch, Air, Pesticides and Toxics Management Division, U.S. Environmental Protection Agency, Region 4, 61 Forsyth Street SW, Atlanta, Georgia 30303-8960. Ms. Ward can be reached via telephone at (404) 562-9140, or via electronic mail at ward.nacosta@epa.gov.

SUPPLEMENTARY INFORMATION: On July 18, 2017, EPA published a direct final rule (82 FR 32767) approving several revisions to the North Carolina SIP. The revisions consisted of changes to or the addition of the following regulations: 15A NCAC Subchapter 2D—Air Pollution Control Requirements, Section .0101, Definitions; Section .0103, Copies of Referenced Federal Regulations; Section .1901 Purpose, Scope, and Impermissible Open Burning Section; .1902, Definitions; Section .1903, Permissible Open Burning Without An Air Quality Permit; Section .2001, Purpose, Scope, and Applicability; and 15A NCAC Subchapter 2Q—Air Quality Permits, Section .0103, Definitions; Section .0105, Copies of Referenced Documents; Section .0304, Applications; Section .0305, Application Submittal Content; Section .0806, Cotton Gins; Section .0808, Peak Shaving Generators; and Section .0810, Air Curtain Burners. On the same day, EPA published proposed rule (82 FR 32782), proposing approval of those same revisions to the North Carolina SIP and providing a 30-day comment period for both the direct final rule and the proposed rule.¹ The direct final rule explained that if EPA received adverse comments, the Agency would withdraw the relevant portion(s) of the direct final action. EPA received adverse comments on the portions of the rulemaking related to the North Carolina regulations 15A NCAC Subchapter 2Q—Air Quality Permits, Section .0808, Peak Shaving Generators, and Section .0810, Air Curtain Burners, only. However, EPA was not able to withdraw these portions of the direct final action before the action became effective. Therefore, EPA is amending § 52.1770 by removing the portions of the SIP related to these two North Carolina regulations. EPA is not opening an additional comment period. At a later date, the Agency may finalize action on these two regulations based on the July 18, 2017 propose rule and respond to the comments in the final action. All other North Carolina regulations that were the subject of the July 18, 2017 direct final rule are not affected by this removal and were incorporated by reference into the SIP as of September 18, 2017, the effective date of the direct final rule (82 FR 32767).

¹ On September 6, 2017 (82 FR 42055), EPA reopened the comment period for the proposed rule, with comments due on or before September 21, 2017.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 22, 2017.
Onis “Trey” Glenn, III,
Regional Administrator, Region 4.

40 CFR part 52 is amended as follows:

PART 52—APPROVAL AND PROMULGATION OF IMPLEMENTATION PLANS

1. The authority citation for part 52 continues to read as follows:

Authority: 42 U.S.C. 7401 et seq.

Subpart II—North Carolina

2. In section 52.1770(c), Table 1, under the heading “Subchapter 2Q—Air Quality Permits,” under the heading “Section .0800 Exclusionary Rules,” is amended by:

a. Revising the entry for “Sect. .0808”; and

b. Removing the entry for “Sect. .0810”

The revision reads as follows:

§ 52.1770 Identification of plan.

* * * * *

(c) * * *

Table 1—EPA-Approved North Carolina Regulations
State citation | Title/subject | State effective date | EPA approval date | Explanation
* * * * * * *
Subchapter 2Q—Air Quality Permits
* * * * * * *
Section .0800 Exclusionary Rules
* * * * * * *
Sect. .0808 | Peak Shaving Generators | 7/1/1999 | 10/22/2002, 67 FR 64989
* * * * * * *

[FR Doc. 2018-00028 Filed 1-9-18; 8:45 am]

BILLING CODE 6560-50-P